DEPARTMENT OF LABOR

Employment and Training Administration

[TA-W-52,705]

Trojan Steel Company, Charleston, West Virginia; Notice of Negative Determination on Reconsideration

On January 6, 2004, the Department issued an Affirmative Determination Regarding Application for Reconsideration for the workers and former workers of the subject firm. The notice was published in the Federal Register on January 26, 2004 (69 FR 3606).

The Department initially denied TAA to workers of Trojan Steel Company, Charleston, West Virginia because the “upstream supplier” group eligibility requirement of section 222(b) of the Trade Act of 1974, as amended, was not met. The “upstream supplier” requirement is fulfilled when the workers' firm (or subdivision) is a supplier to a firm that employed a group of workers who received a certification of eligibility to apply for trade adjustment assistance benefits and such supply or production is related to the article that was the basis for such certification. The TAA certified firm must also constitute 20 percent of subject firm sales or the loss of business from this certified firm must contribute importantly to layoffs at the subject firm.

The workers of Trojan Steel Company, Charleston, West Virginia did not supply significant quantities of steel to the trade certified firm listed in the petition during the period under investigation.

In the request for reconsideration, the petitioner supplied an extended list of customers “from the last five years”, alleging that an investigation of these additional customers would prove that the subject firm was eligible under secondary impact.

The Department reviewed all of these firms and found that none of the worker groups employed by these firms were certified for TAA.

Conclusion

After review of the application and investigative findings, I conclude that there has been no error or misinterpretation of the law or of the facts which would justify reconsideration of the Department of Labor's prior decision. Accordingly, the application is denied.

Signed in Washington, DC, this 4th day of February, 2004.
Elliott S. Kushner,
Certifying Officer, Division of Trade Adjustment Assistance.

[FR Doc. 04-3932 Filed 2-23-04; 8:45 am]

BILLING CODE 4510-30-P